DEPARTMENT OF AGRICULTURE

Submission for OMB Review; Comment Request

March 10, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food Safety and Inspection Service

Title: Public Health Inspection System.

OMB Control Number: 0583-NEW.

Summary of Collection: The Food Safety and Inspection Service (FSIS) has been delegated the authority to exercise the functions of the Secretary as provided in the Federal Meat Inspection Act (FMIA) (21 U. S.C. 601 et. seq.), the Poultry Products Inspection Act (PPIA) (21 U.S.C. 451, et. seq.), and the Egg Products Inspection Act (EPIA) (21 U.S.C. 1031). These statutes mandate that FSIS protect the public by ensuring that meat, poultry, and egg products are safe, wholesome, unadulterated, and properly labeled and packaged.

Need and Use of the Information: FSIS is developing a new Web-based system that will improve FSIS inspection operations and facilitate industry members' application for inspection, export, and import of meat, poultry, and egg products. When the Agency implements the Public Health Information System (PHIS), industry members will use current and new FSIS forms in PHIS. Industry will be able to submit some of these forms through a series of on-line screens in PHIS; other forms will be available in PHIS only as electronic forms. Paper forms will also be available to firms that do not wish to use PHIS. To submit information through PHIS, firms' employees will need to register for a USDA eAuthentication account with Level 2 access.

Description of Respondents: Business or other for-profit.

Number of Respondents: 2,447.

Frequency of Responses: Reporting: On occasion.

Total Burden Hours: 176,467.

Ruth Brown,
Departmental Information Collection Clearance Officer.

[FR Doc. 2011-6041 Filed 3-15-11; 8:45 am]

BILLING CODE 3410-DM-P